DEPARTMENT OF COMMERCE

National Oceanic and Atmospheric Administration

RIN 0648-XA563

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary decision that an Exempted Fishing Permit (EFP) application contains all of the required information and now warrants public input on the application. This proposed project would be conducted by the Atlantic Offshore Lobstermen's Association (AOLA), in conjunction with scientists and the fishing industry, to help them understand the settlement and location of larval lobsters, and the size of the population in management Area 3. This EFP would excuse 11 commercial fishing vessels from the following Federal American lobster regulation: Mutilation requirement within American lobster management Area 3. The researchers propose to collect a pleopod (small swimmerettes located on the lower body at the front side of the tail section of the lobster) from a maximum of 100 sexually immature juvenile lobsters during the AOLA project. The lobsters would then be measured and their sex determined before immediately being returned alive to the ocean. Regulations under the Magnuson-Stevens Fishery Conservation and Management Act require publication of this notification to provide interested parties the opportunity to comment on applications for proposed EFPs.

DATES: Comments must be received on or before August 1, 2011.

ADDRESSES: Comments on this notice may be submitted by e-mail. The mailbox address for providing e-mail comments is NERO.EFP@noaa.gov. Include in the subject line “Comments on AOLA Lobster Pleopod EFP.” Comments may also be sent via facsimile to (978) 281-9135. Written comments should be sent to Patricia A. Kurkul, Regional Administrator, NMFS, NE Regional Office, 55 Great Republic Drive, Gloucester, MA 01930. Mark the outside of the envelope “Comments on AOLA Lobster Pleopod EFP.”

FOR FURTHER INFORMATION CONTACT: Carol Shé, Fishery Policy Analyst, 978-282-8464, or Carol.She@noaa.gov.

SUPPLEMENTARY INFORMATION: AOLA submitted a complete application for an EFP on June 30, 2011, to conduct research activities that the regulations would otherwise restrict. This EFP requests an exemption for 11 Federal commercial fishing vessels from the following Federal regulation: Mutilation requirements in 50 CFR 697.20(c). This research would take place as part of the on-going research being conducted by AOLA under an EFP approved on April 29, 2011. The researchers propose to collect a pleopod (small swimmerettes located on the lower body at the front side of the tail section of the lobster) from a maximum of 100 sexually immature juvenile lobsters during the AOLA project. To remove a pleopod for genetic analysis the following procedure would be followed: The lobster would be placed upside down, on the sorting table or other flat surface, to expose the underside of the tail. A crew member would use a small pair of snips or scissors to clip off the most distant part of one pleopod, approximately .20 inches by .20 (5 millimeter (mm) by 5 mm in length). The specialized first pair of pleopods would be avoided, with all sampling coming from one of the rear pleopod sets. The impacts on the lobster resource would be negligible because: (1) The removal of the pleopod is not expected to result in mortality; and (2) 100 animals, in relation to the total American lobster population, is so small that any effects would not be able to be measured. Because this project is only relevant to the sampling and release of a maximum of 100 juvenile lobsters, there would be no impacts to habitat and protected species and there would be no impacts with respect to bycatch.

Authority: 16 U.S.C. 1801 et seq.

Dated: July 12, 2011.
Margo Schulze-Haugen,
Acting Director, Office of Sustainable Fisheries, National Marine Fisheries Service.

[FR Doc. 2011-17896 Filed 7-14-11; 8:45 am]

BILLING CODE 3510-22-P